NATIONAL SCIENCE FOUNDATION

Advisory Committee for Geosciences Committee of Visitors; Notice of Meeting

In accordance with the Federal Advisory Committee Act (Pub. L. 92-463, as amended), the National Science Foundation announces the following meeting:

Name: Advisory Committee for Geosciences; Committee of Visitors (1755).

Date/Time: September 10-12, 2001, 8 a.m.-5:30 p.m. each day.

Place: Room 770, NSF, 4201 Wilson Boulevard, Arlington, VA.

Type of Meeting: Part-open (See Agenda, below).

Contact Person: Ms. Pamela L. Stephens, Senior Science Coordinator, Lower Atmosphere Research Section, Division of Atmospheric Sciences, National Science Foundation, 4201 Wilson Boulevard, Arlington, VA 22230, (703) 292-8523.

Purpose of Meeting: To carry out Committee of Visitors (COV) review including program evaluation, GPRA assessments, and access to privileged materials.

Agenda: To provide oversight review of the Lower Atmosphere Research Section.

Closed: September 10 from 8 a.m.-5:30 p..m.; September 11 from 8 a.m.-2 p.m. and September 12 from 8 a.m.-4:30 p.m. To review the merit review processes covering funding decisions of the Lower Atmosphere Research Section made during the immediately preceding three fiscal years.

Open: September 11 from 2 p.m.-5:30 p.m. To assess the results of NSF program investments in the Division of Atmospheric Sciences, Lower Atmosphere Research Section. This shall involve a discussion and review of results focused on NSF and grantee outputs and related outcomes achieved or realized during the preceding three fiscal years. These results may be based on NSF grants or to other investments made in earlier years.

Reason for Closing: The proposals being reviewed include information of a proprietary or confidential nature, including technical information, financial data, such as salaries, and personal information concerning individuals associated with the proposals. These matters that are exempt under 5 U.S.C. 552b(c), (4) and (6) of the Government in the Sunshine Act.

Dated: August 21, 2001.
Susanne Bolton,
Committee Management Officer.

[FR Doc. 01-21515 Filed 8-24-01; 8:45 am]

BILLING CODE 7555-01-M